FEDERAL COMMUNICATIONS COMMISSION

47 CFR Part 73

[DA 11-488]

Update Station License Expiration Dates

AGENCY: Federal Communications Commission.

ACTION: Final rule.

SUMMARY: In this document the Federal Communications Commission updates its rules to reflect the current license expiration dates for radio and television broadcast stations. The current version of the rule specifies license expiration dates from 2011 through 2014 for radio stations and 2012 through 2015 for television stations; these expiration dates are long out of date. Modifying the rule will enable broadcast station licensees to quickly peruse the rule to determine when their stations' licenses will expire. It will also accurately reflect the expiration dates listed both in the Commission's data base and on the broadcast stations' most recent license or renewal authorization.

DATES: Effective April 12, 2011.

FOR FURTHER INFORMATION CONTACT: Michael Wagner 202-418-2775.

SUPPLEMENTARY INFORMATION: The Federal Communications Commission considers this rule to be a procedural rule change which is exempt from notice-and-comment under 5 U.S.C. 553(b)(3)(A).

This rule is not a significant rule for purposes of Executive Order 12866 and has not been reviewed by the Office of Management and Budget. As required by the Regulatory Flexibility Act, the Federal Communications Commission certifies that these regulatory amendments will not have a significant impact on small business entities.

The Commission will not send a copy of this item pursuant to the Congressional Review Act, see 5 U.S.C. 801(a)(1)(A), because the changes made involve only the year in which broadcast station licenses expire. There are no substantive or procedural changes to any rule.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 73

Radio, Station license period, Television.

Federal Communications Commission.
William T. Lake,
Chief, Media Bureau.

Rule Changes

For the reasons set forth in the preamble, amend part 73 of title 47 of the Code of Federal Regulations as follows:

PART 73—TELECOMMUNICATIONS

1. The authority citation for part 73 continues to read as follows:

Authority: 47 U.S.C. 154, 303, 334, 336, and 339.

2. Revise § 73.1020(a)(1) through (18) to read as follows:

§ 73.1020 Station license period.

(a) * * *

(1) Maryland, District of Columbia, Virginia and West Virginia:

(i) Radio stations, October 1, 2011.

(ii) Television stations, October 1, 2012.

(2) North Carolina and South Carolina:

(i) Radio stations, December 1, 2011.

(ii) Television stations, December 1, 2012.

(3) Florida, Puerto Rico and the Virgin Islands:

(i) Radio stations, February 1, 2012.

(ii) Television stations, February 1, 2013.

(4) Alabama and Georgia:

(i) Radio stations, April 1, 2012.

(ii) Television stations, April 1, 2013.

(5) Arkansas, Louisiana and Mississippi:

(i) Radio stations, June 1, 2012.

(ii) Television stations, June 1, 2013.

(6) Tennessee, Kentucky and Indiana:

(i) Radio stations, August 1, 2012.

(ii) Television stations, August 1, 2013.

(7) Ohio and Michigan:

(i) Radio stations, October 1, 2012.

(ii) Television stations, October 1, 2013.

(8) Illinois and Wisconsin:

(i) Radio stations, December 1, 2012.

(ii) Television stations, December 1, 2013.

(9) Iowa and Missouri:

(i) Radio stations, February 1, 2013.

(ii) Television stations, February 1, 2014.

(10) Minnesota, North Dakota, South Dakota, Montana and Colorado:

(i) Radio stations, April 1, 2013.

(ii) Television stations, April 1, 2014.

(11) Kansas, Oklahoma and Nebraska:

(i) Radio stations, June 1, 2013.

(ii) Television stations, June 1, 2014.

(12) Texas:

(i) Radio stations, August 1, 2013.

(ii) Television stations, August 1, 2014.

(13) Wyoming, Nevada, Arizona, Utah, New Mexico and Idaho:

(i) Radio stations, October 1, 2013.

(ii) Television stations, October 1, 2014.

(14) California:

(i) Radio stations, December 1, 2013.

(ii) Television stations, December 1, 2014.

(15) Alaska, American Samoa, Guam, Hawaii, Mariana Islands, Oregon and Washington:

(i) Radio stations, February 1, 2014.

(ii) Television stations, February 1, 2015.

(16) Connecticut, Maine, Massachusetts, New Hampshire, Rhode Island and Vermont:

(i) Radio stations, April 1, 2014.

(ii) Television stations, April 1, 2015.

(17) New Jersey and New York:

(i) Radio stations, June 1, 2014.

(ii) Television stations, June 1, 2015.

(18) Delaware and Pennsylvania:

(i) Radio stations, August 1, 2014.

(ii) Television stations, August 1, 2015.

* * * * *

[FR Doc. 2011-8752 Filed 4-11-11; 8:45 am]

BILLING CODE 6712-01-P